DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Nautical Discrepancy Reporting System.

OMB Control Number: 0648-0007.

Form Number(s): NA.

Type of Request: Regular submission (revision and extension of a current information collection).

Number of Respondents: 300.

Average Hours per Response: 30 minutes.

Burden Hours: 150.

Needs and Uses: This request is for a revision and extension of a currently approved information collection.

National Oceanic and Atmospheric Administration (NOAA) Office of Coast Survey is the nation's nautical chartmaker, maintaining and updating over a thousand charts covering the 3.5 million square nautical miles of coastal waters in the U.S. Exclusive Economic Zone and the Great Lakes. Coast Survey also writes and publishes the United States Coast Pilot®, a series of nine nautical books that supplement nautical charts with essential marine information that cannot be shown graphically on the charts and are not readily available elsewhere.

Revision: Until recently, Coast Survey asked readers of the Coast Pilot to submit corrections or reports of inaccuracies by mailing or faxing a printed form found in the book. That form was discontinued. Now Coast Survey solicits information through the online Nautical Discrepancy Reporting System (http://ocsdata.ncd.noaa.gov/idrs/discrepancy.aspx).

Data obtained through this system is used to update U.S. nautical charts and the United States Coast Pilot.

Affected Public: Individuals or households.

Frequency: On occasion.

Respondent's Obligation: Voluntary.

This information collection request may be viewed at http://www.reginfo.gov. Follow the instructions to review Department of Commerce collections currently under review.

Written comments and recommendations for the proposed information collection should be sent within 30 days of publication of this notice to OIRA_Submission@omb.eop.gov or fax to (202) 395-5806.

Dated: February 18, 2014.
Gwellnar Banks,
Management Analyst, Office of the Chief Information Officer.

[FR Doc. 2014-03752 Filed 2-21-14; 8:45 am]

BILLING CODE 3510-JE-P